DEPARTMENT OF COMMERCE

National Technical Information Service

National Technical Information Service Advisory Board

AGENCY: National Technical Information Service, Commerce.

ACTION: Notice; solicitation of applications for NTIS Advisory Board membership.

SUMMARY: The National Technical Information Service (NTIS) is seeking a qualified candidate to serve as one of the five members of the NTIS Advisory Board. NTIS Advisory Board will meet at least semiannually to advise the Secretary of Commerce, the Under Secretary for Technology, and the Director of NTIS on NTIS's mission, general policies and fee structure.

DATES: Applications must be received no later than November 9, 2006.

ADDRESSES: Applications should be submitted by mail to Ellen Herbst, Director, NTIS, 5285 Port Royal, Springfield, Virginia 22161 or electronically to EHerbst@ntis.gov.

FOR FURTHER INFORMATION CONTACT: Mr. Steven Needle (703) 605-6404 or SNeedle@ntis.gov; Dr. Douglas Campion (703) 605-6214 or DCampion@ntis.gov; or Ms. Pat Moton (703) 605-6103 or PMoton@ntis.gov. These are not toll-free numbers. Alternatively, each can be reached by writing to them at National Technical Information Service, 5285 Port Royal Road, Springfield, Virginia 22161.

SUPPLEMENTARY INFORMATION: NTIS is seeking one candidate to serve as member of its five-member Advisory Board, which was established by Section 3704b(c) of Title 15 of the United States Code. It will meet at least semiannually to advise the Secretary of Commerce, the Under Secretary of Technology, and the Director of NTIS on NTIS's mission, general policies and fee structure. The selected candidate will be appointed by the Secretary and will serve for a three-year term. Members receive no compensation but will be authorized travel and per diem expenses. NTIS is seeking a candidate who can provide guidance on trends in the information industry and changes in the way NTIS's customers acquire and use its products and services. Interested candidates should submit a resume and a statement explaining their interest in serving on the Board.

Dated: October 4, 2006.
Ellen Herbst,
Director.

[FR Doc. 06-8567 Filed 10-6-06; 8:45 am]

BILLING CODE 3510-04-M